DEPARTMENT OF HEALTH AND HUMAN SERVICES

Centers for Disease Control and Prevention

[30-Day-15-0931]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Healthy Homes and Lead Poisoning Prevention Surveillance System (HHLPPSS)(OMB Control No. 0920-0931, Expiration April 30, 2015)—Extension—National Center for Environmental Health (NCEH) and Agency for Toxic Substances and Disease Registry (ATSDR), Centers for Disease Control and Prevention (CDC).

Background and Brief Description

The overarching goal of the Healthy Homes and Lead Poisoning Prevention Surveillance System (HHLPPSS) is to support healthy homes surveillance activities at the state and national levels. HHLPSS is not a research study; rather it is a systematic assessment of programmatic activities under the healthy homes cooperative agreement. CDC is requesting a three-year extension of Office of Management and Budget (OMB) approval for up to 40 local and state Healthy Homes Childhood Lead Poisoning Prevention Programs (CLPPP) and the state-based Adult Blood Lead Epidemiology and Surveillance (ABLES) programs. The programs will continue to report information (e.g., presence of lead paint, age of housing, occupation of adults and type of housing) via encrypted files and submit, electronically, to HHLPPB staff at CDC. The electronic files will be kept in accordance with CDC Records Control Schedules.

Over the last three years, 7 states have adopted the HHLPPSS and 13 are in beta-testing. In October 2014, CDC began funding 40 state and local blood lead surveillance programs. Many of these programs and their subcontractors at the local level will come on line with HHLPPSS in the next year.

The objectives for this surveillance system are two-fold. First, the HHLPPSS allows CDC to systematically track how the state and local programs conduct case management and follow-up of residents with housing-related health outcomes. Second, the system allows for identification and collection of information on other housing-related risk factors. Childhood and adult lead poisoning is just one of many adverse health conditions that are related to common housing deficiencies. Multiple hazards in housing (e.g., mold, vermin, radon and the lack of safety devices) continue to adversely affect the health of residents. HHLPPSS offers a coordinated, comprehensive, and systematic public health approach to eliminate multiple housing-related health hazards.

HHLPPSS enables flexibility to evaluate housing where the risk for lead poisoning is high, regardless of whether children less than 6 years of age currently reside there. Thus, HHLPPSS supports CDC efforts for primary prevention of childhood and adult lead poisoning. Over the past several decades there has been a remarkable reduction in environmental sources of lead, improved protection from occupational lead exposure, and an overall decreasing trend in the prevalence of elevated blood lead levels (BLLs) in U.S. adults. As a result, the U.S. national BLL geometric mean among adults was 1.2 µg/dL during 2009-2010. Nonetheless, lead exposures continue to occur at unacceptable levels. Current research continues to find that BLLs previously considered harmless can have harmful effects in adults, such as decreased renal function and increased risk for hypertension and essential tremor at BLLs <10 µg/dL.

There is no cost to respondents other than their time. The total estimated annual burden hours are 640.

Estimated Annualized Burden Hours
Type of respondents | Form name | Number of respondents | Number of responses per respondent | Average burden per response (in hours)
State and Local Health Departments | Healthy Homes and Lead Poisoning Prevention Surveillance Variables (HHLPPSS) | 40 | 4 | 4

Leroy A. Richardson,
Chief, Information Collection Review Office, Office of Scientific Integrity, Office of the Associate Director for Science, Office of the Director, Centers for Disease Control and Prevention.

[FR Doc. 2015-01652 Filed 1-28-15; 8:45 am]

BILLING CODE 4163-18-P